DEPARTMENT OF LABOR

Mine Safety and Health Administration

Petitions for Modification

The following parties have filed petitions to modify the application of existing safety standards under section 101(c) of the Federal Mine Safety and Health Act of 1977.

1. J & J Coal Company

[Docket No. M-2004-046-C]

J & J Coal Company, 678 Main Street, Goodspring, Pennsylvania 17981 has filed a petition to modify the application of 30 CFR 75.335 (Construction of seals) to its Rocky Top Mine (MSHA I.D. No. 36-09072) located in Schuylkill County, Pennsylvania. Petitioner proposes constructing seals from wooden materials of moderate size and weight; designing the seals to withstand a static horizontal pressure in the range of 10 psi; and installing a sampling tube only in the monkey (higher elevation) seal. The petitioner asserts that because of the pitch of anthracite veins, concrete blocks are difficult to use and expose miners to safety hazards during transport. The petitioner cites the low level of explosibility of anthracite coal dust and the minimal potential for either an accumulation of methane in previously mined pitching veins or an ignition source in the gob area as justification for the proposed 10 psi design criterion. The petitioner asserts that the proposed alternative method would provide at least the same measure of protection as the existing standard.

2. Arclar Company, LLC

[Docket No. M-2004-047-C]

Arclar Company, LLC, 420 Long Lane Road, Equality, Illinois 62934 has filed a petition to modify the application of 30 CFR 75.1909(b)(6) (Nonpermissible diesel-powered equipment; design and performance requirements) to its Willow Lake Mine (MSHA I.D. No. 11-030054) located in Saline County, Illinois. The petitioner proposes to operate its Getman RDG-1504S Road Builder as it was originally designed, without front wheel brakes. The petitioner states that the Getman Road Builder has six (6) wheels and a dual brake system on the four (4) rear wheels and is designed to prevent a loss of braking due to a single component failure. In addition, the petitioner will limit the speed of the equipment to 10 miles per hour; provide training to the operators to recognize appropriate speeds for different road conditions and slopes; and provide training for the operators to lower the grader blade to provide additional stopping capability. The petitioner asserts that the proposed alternative method would provide at least the same measure of protection as the existing standard.

3. Unimin Corporation

[Docket No. M-2004-009-M]

Unimin Corporation, 258 Elm Street, New Canaan, Connecticut 06840 has filed a petition to modify the application of 30 CFR 56.13020 (Use of compressed air) to its Marston Plant (MSHA I.D. No. 31-01518) located in Richmond County, North Carolina. The petitioner proposes to implement a clothes cleaning booth process that has been jointly developed with and successfully tested by the National Institute for Occupational Safety and Health (NIOSH), for the use of controlled compressed air for cleaning miners' dust laden clothing. The petitioner asserts that the proposed alternative method would provide at least the same measure of protection as the existing standard.

Request for Comments

Persons interested in these petitions are encouraged to submit comments via Federal eRulemaking Portal: http://www.regulations.gov; e-mail: Comments@MSHA.gov; Fax: (202) 693-9441; or Regular Mail/Hand Delivery/Courier: Mine Safety and Health Administration, Office of Standards, Regulations, and Variances, 1100 Wilson Boulevard, Room 2350, Arlington, Virginia 22209. All comments must be postmarked or received in that office on or before December 29, 2004. Copies of these petitions are available for inspection at that address.

Dated at Arlington, Virginia this 22nd day of November 2004.
Marvin W. Nichols, Jr.,
Director, Office of Standards, Regulations, and Variances.

[FR Doc. 04-26280 Filed 11-26-04; 8:45 am]

BILLING CODE 4510-43-P